DEPARTMENT OF AGRICULTURE

Submission for OMB Review; Comment Request

November 15, 2017.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by December 20, 2017 will be considered. Written comments should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: WIC Farmers' Market Nutrition Program (FMNP) Forms and Regulations.

OMB Control Number: 0584-0447.

Summary of Collection: The FMNP is authorized by Section 17(m) of the Child Nutrition Act of 1966 (42 U.S.C. 1786(m)), (CNA). The purposes of the FMNP are to provide fresh, nutritious, unprepared locally grown fruits, vegetables and herbs from farmers' markets, and roadside stands to WIC participants; to expand the awareness and use of farmers' markets; and to increase sales at such markets. The FMNP is intended to benefit both the coupon recipients by improving their diets, and the farmers who sell their produce at farmers' markets by increasing their incomes. The Food and Nutrition Service (FNS) will collect information from each state that receives a grant under the FMNP program in conjunction with the preparation of annual financial and recipient reports.

Need and Use of the Information: FNS uses the information collection to assess how each FMNP State agency operates; to ensure the accountability of State agencies, local agencies, and farmers/farmers' markets/roadside stands; to make program management decisions; and to report to Congress as needed.

Description of Respondents: State, Local, or Tribal Government; Individuals or household; Business or other for-profit, Farms.

Number of Respondents: 1,660,178.

Frequency of Responses: Recordkeeping; Reporting: Annually.

Total Burden Hours: 929,211.

Ruth Brown,
Departmental Information Collection Clearance Officer.

[FR Doc. 2017-25094 Filed 11-17-17; 8:45 am]

BILLING CODE 3410-30-P